SMALL BUSINESS ADMINISTRATION

National Small Business Development Center Advisory Board

AGENCY: Small Business Administration.

ACTION: Notice of meeting cancellation.

SUMMARY: In accordance with the Federal Advisory Committee Act, the U.S. Small Business Administration (SBA) announces that the planned meeting on February 12, 2025, of the National Small Business Development Center Advisory Board (NSBDCAB) is cancelled.

FOR FURTHER INFORMATION CONTACT: Rachel Karton, Designated Federal Officer, Office of Small Business Development Centers (OSBDC), SBA, 409 Third Street SW, Washington, DC 20416; Rachel.newman-karton@sba.gov; 202-619-1816.

SUPPLEMENTARY INFORMATION: This meeting was announced in the Federal Register on January 16, 2025, at 90 FR 4827. The cancellation of this meeting is due to SBA administrative priorities. SBA will announce the new date for this meeting in a future Federal Register notice.

Andrienne Johnson,
Committee Management Officer.

[FR Doc. 2025-02459 Filed 2-10-25; 8:45 am]

BILLING CODE 8026-09-P